DEPARTMENT OF TRANSPORTATION

Federal Aviation Administration

14 CFR Part 39

[Docket No. FAA-2005-21355; Directorate Identifier 2005-NM-037-AD]

RIN 2120-AA64

Airworthiness Directives; Boeing Model 767 Series Airplanes Powered by General Electric or Pratt & Whitney Engines

AGENCY: Federal Aviation Administration (FAA), Department of Transportation (DOT).

ACTION: Notice of proposed rulemaking (NPRM).

SUMMARY: The FAA proposes to supersede an existing airworthiness directive (AD) that applies to certain Boeing Model 767 series airplanes. The existing AD currently requires repetitive inspections to detect discrepancies of the eight aft-most fastener holes in the horizontal tangs of the midspar fitting of the strut, and corrective actions if necessary. That AD also provides an optional terminating action for the repetitive inspections. This proposed AD would add repetitive inspections for cracks of the closeout angle that covers the two aft-most fasteners in the lower tang of the midspar fitting, and related investigative and corrective actions if necessary. This proposed AD also would reduce the inspection interval of the upper tang of the outboard midspar fitting; and would provide an optional terminating action for the repetitive inspections. This proposed AD is prompted by a report of a crack in a closeout angle that covers the two aft-most fasteners in the lower tang of the midspar fitting; and the discovery of a crack in the lower tang of the midspar fitting under the cracked closeout angle. We are proposing this AD to prevent fatigue cracking in the primary strut structure and reduced structural integrity of the strut, which could result in separation of the strut and engine.

DATES: We must receive comments on this proposed AD by July 18, 2005.

ADDRESSES: Use one of the following addresses to submit comments on this proposed AD.

• DOT Docket Web site: Go to http://dms.dot.gov and follow the instructions for sending your comments electronically.

• Government-wide Rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street, SW., room PL-401, on the plaza level of the Nassif Building, Washington, DC. This docket number is FAA-2005-21355; the directorate identifier for this docket is 2005-NM-037-AD.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION:

Comments Invited

We invite you to submit any relevant written data, views, or arguments regarding this proposed AD. Send your comments to an address listed under ADDRESSES. Include “Docket No. FAA-2005-21355; Directorate Identifier 2005-NM-037-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On April 22, 2004, we issued AD 2004-09-14, amendment 39-13603 (69 FR 24947, May 5, 2004), for certain Boeing Model 767 series airplanes. That AD requires repetitive inspections to detect discrepancies of the eight aft-most fastener holes in the horizontal tangs of the midspar fitting of the strut, and corrective actions if necessary. That AD also provides an optional terminating action for the repetitive inspections. That AD was prompted by reports of cracking at the third row of fasteners in the midspar fitting. We issued that AD to prevent fatigue cracking in the primary strut structure and reduced structural integrity of the strut, which could result in separation of the strut and engine.

Actions Since Existing AD Was Issued

Since we issued that AD, an operator doing the inspections required by AD 2004-09-14 discovered a crack in the closeout angle that covers the two aft-most fasteners in the lower tang of the midspar fitting and found that the midspar fitting, where it was hidden by the closeout angle, was also cracked. The closeout angle does not normally carry high fatigue loads, so a cracked closeout angle is a symptom of cracking in the midspar fitting at the fastener locations under the closeout angle. The existing AD requires an inspection of the closeout angle, but does not require that operators inspect the midspar fitting under the angle if the detailed inspection option (one of two options for compliance) is chosen. Analysis has shown that the detailed inspection of the closeout angle does not provide sufficient probability of detecting the secondary cracking resulting from a cracked midspar fitting. The same analysis showed that the repetitive interval for inspecting the upper tang of the outboard midspar fitting is insufficient.

Relevant Service Information

We have reviewed Boeing Alert Service Bulletin 767-54A0101, Revision 4, dated February 10, 2005 (AD 2004-09-14 refers to Boeing Service Bulletin 767-54A0101, Revision 3, dated September 5, 2002, as the appropriate source of service information for the actions specified in that AD). The alert service bulletin describes procedures for the repetitive detailed inspections or high-frequency eddy current (HFEC) inspections of the aft-most fastener holes that are mandated by the existing AD. In addition, the alert service bulletin describes procedures for repetitive HFEC inspections of the closeout angle around the two fasteners common to the closeout angle and the midspar fitting.

If no crack or incorrect fastener hole diameter is found during any inspection, the alert service bulletin describes procedures for doing any necessary rework of the fastener holes, and repeating the inspection at intervals ranging from 600 flight cycles to 16,000 flight cycles, depending on the type of engine, the area to be inspected, and the inspections accomplished previously according to the existing AD. In this revision of the service bulletin, the repetitive inspection interval for the detailed inspection of the upper tangs of the outboard midspar fitting is reduced from 6,000 flight cycles to 1,500 flight cycles.

If any crack is found during any inspection of the closeout angle, the service bulletin describes procedures for related investigative and corrective actions. The related actions are to remove the two fasteners common to the closeout angle and the midspar fitting, and do an HFEC inspection for discrepancies (cracks, incorrect fastener hole diameter) of the fastener holes of the closeout angle. If there are no discrepancies in the open fastener holes, the corrective action is to contact the manufacturer for repair instructions for the closeout angle. If cracks are found both in the closeout angle and the open fastener holes, or if any of the eight fastener holes are larger than 0.5322 inch, the corrective action is to do the terminating action in Part 4 of the alert service bulletin, or to contact the manufacturer for repair instructions.

Accomplishing the actions specified in Boeing Alert Service Bulletin 767-54A0101, Revision 4, is intended to adequately address the unsafe condition.

The alert service bulletin refers to the Boeing service bulletins in the following table as additional sources of service information for doing the terminating action in Part 4 of the alert service bulletin.

Additional Sources of Service Information
Boeing service bulletin | Revision level | Date | Title
767-54-0052 | Original | June 11, 1992 | Nacelles/Pylons—Strut—Aft Lower Spar—Fastener Corrosion—Inspection and Replacement.
767-54-0061 | 2 | November 23, 1999 | Nacelles/Pylons—Wing-to-Strut Attach Fittings—Lower Spar Bushing Inspection and Replacement.
767-54-0069 | 2 | August 31, 2000 | Nacelles/Pylons—Midspar Fitting—Underwing Sideload Fitting—Fuse Pin Replacement and Wing Rework.
767-54-0072 | Original | March 13, 1997 | Nacelles/Pylons—Strut Attach Upper Link—Upper Link Inspection, Rework, or Replacement.
767-54-0080 | 1 | May 9, 2002 | Nacelles/Pylons—Pratt and Whitney Powered Airplanes—Nacelle Strut and Wing Structure Modification.
767-54-0081 | 1 | February 7, 2002 | Nacelles/Pylons—General Electric Powered Airplanes—Nacelle Strut and Wing Structure Modification.
767-54A0062 | 5 | November 11, 2002 | Nacelles/Pylons—Strut Attach Fuse Pins—Midspar Fuse Pin Inspection and Replacement.
767-54A0074 | Original | March 27, 1997 | Nacelles/Pylons—Strut Attach Fuse Pins—Upper link Fuse Pin Inspection/Replacement.
767-54A0094 | 2 | February 7, 2002 | Nacelles/Pylons—Strut-to-Wing Attachment—Diagonal Brace Inspection/Rework/Replacement.
767-57-0063 | 1 | November 30, 2000 | Wings—Side Load Underwing Fitting—Inspection/Rework.

Other Relevant Rulemaking

The FAA has issued the following ADs that are related to the additional sources of service information listed in the table above.

• AD 94-11-02, amendment 39-8918 (59 FR 27229, May 26, 1994), applicable to all Boeing Model 767 series airplanes, and related to Boeing Alert Service Bulletin 767-54A0062. AD 94-11-02 requires repetitive detailed visual and eddy current inspections to detect cracks of certain midspar fuse pins, and replacement of any cracked midspar fuse pin with a new fuse pin.

• AD 99-07-06, amendment 39-11091 (64 FR 14578, March 26, 1999), applicable to certain Boeing Model 767 series airplanes, and related to Boeing Alert Service Bulletin 767-54A0094. AD 99-07-06 requires repetitive inspections to detect cracking or damage of the forward and aft lugs of the diagonal brace of the nacelle strut; follow-on actions, if necessary; and an optional terminating action for the repetitive inspections. AD 99-07-06 was superseded by AD 2000-07-05.

• AD 2000-07-05, amendment 39-11659 (65 FR 18883, April 10, 2000), applicable to certain Boeing Model 767 series airplanes, and related to Boeing Alert Service Bulletin 767-54A0094. AD 2000-07-05 requires the previously optional terminating action of AD 99-07-06.

• AD 2000-10-51, amendment 39-11770 (65 FR 37011, June 13, 2000), applicable to certain Boeing Model 767 series airplanes, and related to Boeing Service Bulletin 767-54A0074. AD 2000-10-51 requires a one-time inspection to determine whether certain bolts are installed in the side load underwing fittings on both struts, and various follow-on actions, if necessary.

• AD 2001-02-07, amendment 39-12091 (66 FR 8085, January 29, 2001), applicable to certain Boeing Model 767 series airplanes powered by Pratt & Whitney engines, and related to Boeing Service Bulletins 767-54-0069 and 767-54-0080; and Boeing Alert Service Bulletin 767-54A0094. AD 2001-02-07 requires modification of the nacelle strut and wing structure. This AD terminates certain requirements of AD 94-11-02.

• AD 2001-06-12, amendment 39-12159 (66 FR 17492, April 2, 2001), applicable to certain Boeing Model 767 series airplanes powered by General Electric engines, and related to Boeing Service Bulletins 767-54-0069 and 767-54-0081; and Boeing Alert Service Bulletin 767-54A0094. AD 2001-06-12 requires modification of the nacelle strut and wing structure. This AD terminates certain requirements of AD 94-11-02.

• AD 2003-03-02, amendment 39-13026 (68 FR 4374, January 29, 3003), applicable to all Boeing Model 767 series airplanes, and related to Boeing Service Bulletin 767-54A0062. AD 2003-03-02 supersedes AD 94-11-02. AD 2003-03-02 retains the requirements of AD 94-11-02, but reduces certain compliance times for certain inspections, expands the detailed and eddy current inspections, and limits the applicability.

FAA's Determination and Requirements of the Proposed AD

The unsafe condition described previously is likely to exist or develop on other airplanes of the same type design that may be registered in the U.S. at some time in the future. We are proposing to supersede AD 2004-09-14. This proposed AD would continue to require repetitive inspections to detect discrepancies of the eight aft-most fastener holes in the horizontal tangs of the midspar fitting of the strut, and corrective actions if necessary; and continue to provide an optional terminating action for the repetitive inspections. This proposed AD also would require repetitive inspections for cracks of the closeout angle that covers the two aft-most fasteners in the lower tang of the midspar fitting, and related investigative and corrective actions if necessary; and would reduce the inspection interval of the upper tang of the outboard midspar fitting; except as discussed under “Difference Between the Proposed AD and the Alert Service Bulletin,” and “Differences Between the Proposed AD and Boeing Service Bulletin 767-54-0074 (an Additional Source of Service Information).”

Difference Between the Proposed AD and the Alert Service Bulletin

The service bulletin specifies that you may contact the manufacturer for instructions on how to repair certain conditions, but this proposed AD would require you to repair those conditions in one of the following ways:

• Using a method that we approve; or

• Using data that meet the certification basis of the airplane, and that have been approved by an Authorized Representative for the Boeing Delegation Option Authorization Organization whom we have authorized to make those findings.

Differences Between the Proposed AD and Boeing Service Bulletin 767-54-0074 (an Additional Source of Service Information)

Boeing Service Bulletin 767-54-0074, dated March 27, 1997, contains erroneous technical information that was later corrected by the following information notices (INs):

• IN 767-54-0074 IN 01, dated October 29, 1998, informs operators that Step E.2.b of the Accomplishment Instructions of Boeing Service Bulletin 767-54-0074 should read “If no crack indication is found, continue to Step F.” instead of “If no crack indication is found, reinstall the fuse pin.”

• IN 767-54-0074 IN 02, dated June 14, 2001, informs operators that the part number of the cotter pin referenced in the material information section should be MS24665-374 rather than MS25665-374.

Table 4 of this proposed AD incorporates these corrections.

Changes to Existing AD

Since AD 2004-09-14 was issued, the AD format has been revised, and certain paragraphs have been rearranged. As a result, the corresponding paragraph identifiers have changed in this proposed AD, as listed in the following table:

Revised Paragraph Identifiers
Requirement in AD 2004-09-14 | Corresponding requirement in this proposed AD
Paragraph (a) | Paragraph (f).
Paragraph (b) | Paragraph (g).
Paragraph (c) | Paragraph (h).
Paragraph (d) | Paragraph (i).
Paragraph (e) | Paragraph (j).
Paragraph (f) | Paragraph (k).
Paragraph (g) | Paragraph (l).
Paragraph (h) | Paragraph (m).
Paragraph (i) | Paragraph (n).
Paragraph (j) | Paragraph (o).

This proposed AD would retain all requirements of AD 2004-09-14. However, we have revised the provisions of paragraph (d) of AD 2004-09-14 (which is included as paragraph (i) of this proposed AD) to include wording related to the new actions in paragraph (p) of this proposed AD.

We have revised the applicability to identify model designations as published in the most recent type certificate data sheet for the affected models.

Costs of Compliance

The following table provides the estimated costs for U.S. operators to comply with this proposed AD.

Estimated Costs
Action | Work hours | Average labor rate per hour | Parts | Cost per airplane | Number of U.S.-registered airplanes | Fleet cost
Option 1: Detailed inspection (required by AD 2004-09-14) | 1 | $65 | None | $65, per inspection cycle | 263 | N/A (depends on chosen option).
Option 2: HFEC inspection (required by AD 2004-09-14) | 3 | 65 | None | 195, per inspection cycle | 263 | N/A (depends on chosen option).
HFEC inspection (new proposed action) | 4 | 65 | None | 260, per inspection cycle | 263 | $68,380, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13603 (69 FR 24947, May 5, 2004) and adding the following new airworthiness directive (AD):

Boeing: Docket No. FAA-2005-21355; Directorate Identifier 2005-NM-037-AD.

Comments Due Date

(a) The Federal Aviation Administration must receive comments on this AD action by July 18, 2005.

Affected ADs

(b) This AD supersedes AD 2004-09-14, amendment 39-13603 (69 FR 24947, May 5, 2004).

Applicability

(c) This AD applies to Boeing Model 767-200, -300, -300F, and -400ER series airplanes, certificated in any category, as identified in Boeing Alert Service Bulletin 767-54A0101, Revision 4, dated February 10, 2005.

Unsafe Condition

(d) This AD was prompted by a report of a crack in a closeout angle that covers the two aft-most fasteners in the lower tang of the midspar fitting; and the discovery of a crack in the lower tang of the midspar fitting under the cracked closeout angle. We are issuing this AD to prevent fatigue cracking in the primary strut structure and reduced structural integrity of the strut, which could result in separation of the strut and engine.

Compliance

(e) You are responsible for having the actions required by this AD performed within the compliance times specified, unless the actions have already been done.

Restatement of Requirements of AD 2004-09-14

Repetitive Inspections

(f) Except as provided by paragraph (g) of this AD, before the accumulation of 10,000 total flight cycles, or within 600 flight cycles after May 15, 2001 (the effective date of AD 2001-07-05, amendment 39-12170), whichever occurs later: Accomplish the inspections required by paragraph (f)(1) or (f)(2) of this AD, as applicable.

(1) Perform a detailed inspection of the four aft-most fastener holes in the horizontal tangs of the midspar fitting of the strut to detect cracking, in accordance with Part 1, “Detailed Inspection,” of the Accomplishment Instructions of Boeing Service Bulletin 767-54A0101, Revision 1, dated February 3, 2000. If no cracking is detected, repeat the inspection thereafter at the applicable intervals specified in Table 1, “Reinspection Intervals for Part 1—Detailed Inspection” included in Figure 1 of the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(2) Perform a high frequency eddy current (HFEC) inspection of the four aft-most fastener holes in the horizontal tangs of the midspar fitting of the strut to detect discrepancies (cracking, incorrect fastener hole diameter), in accordance with Part 2, “High Frequency Eddy Current (HFEC) Inspection,” of the Accomplishment Instructions of the service bulletin. Accomplish the requirements specified in paragraph (f)(2)(i) or (f)(2)(ii) of this AD, as applicable; and repeat the inspection thereafter at the applicable intervals specified in Table 2, “Reinspection Intervals for Part 2—HFEC Inspection” included in Figure 1 of the service bulletin.

(i) If no cracking is detected and the fastener hole diameter is less than or equal to 0.5322 inch, before further flight, rework the hole in accordance with Part 3 of the Accomplishment Instructions of the service bulletin.

(ii) If no cracking is detected and the fastener hole diameter is greater than 0.5322 inch, before further flight, accomplish the requirements specified in either paragraph (h)(1) or (h)(2) of this AD.

(g) For airplanes on which the two aft-most fasteners have been inspected in accordance with Boeing Service Bulletin 767-54A0101, Revision 1, dated February 3, 2000, prior to May 15, 2001: Perform the initial inspection of the four aft-most fasteners in accordance with paragraph (f) of this AD before the accumulation of 10,000 total flight cycles, or within 1,500 flight cycles after May 15, 2001, whichever occurs later.

Corrective Actions

(h) If any cracking is detected after accomplishment of any inspection required by paragraph (f) of this AD, before further flight, accomplish the requirements specified in either paragraph (h)(1) or (h)(2) of this AD.

(1) Accomplish the terminating action specified in Part 4 of the Accomplishment Instructions of Boeing Service Bulletin 767-54A0101, Revision 1, dated February 3, 2000; Boeing Service Bulletin 767-54A0101, Revision 3, dated September 5, 2002; or Boeing Alert Service Bulletin 767-54A0101, Revision 4, dated February 10, 2005. Accomplishment of this paragraph terminates the requirements of this AD. After the effective date of this AD, only Boeing Alert Service Bulletin 767-54A0101, Revision 4, may be used.

(2) Replace the midspar fitting of the strut with a serviceable part, or repair in accordance with a method approved by the Manager, Seattle Aircraft Certification Office (ACO), FAA. Repeat the applicable inspection thereafter at the applicable time specified in paragraph (f)(1) or (f)(2) of this AD.

(i) If any discrepancies (cracking, incorrect fastener hole diameter) are detected during any inspection required by paragraph (f) or (p) of this AD, for which the service bulletin specifies that the manufacturer may be contacted for disposition of those repair conditions: Before further flight, accomplish the applicable related investigative and corrective actions (including fastener hole rework and/or midspar fitting replacement) according to a method approved by the Manager, Seattle ACO; or in accordance with data meeting the certification basis of the airplane approved by an Authorized Representative for the Boeing Delegation Option Authorization Organization who has been authorized by the Manager, Seattle ACO, to make such findings. For a method to be approved, the approval must specifically reference this AD.

Additional Inspections

(j) Prior to the accumulation of 10,000 total flight cycles, or within 600 flight cycles after June 9, 2004 (the effective date of AD 2004-09-14), whichever occurs later: Perform the inspections specified in paragraph (f)(1) or (f)(2) of this AD, as applicable, on all eight aft-most fastener holes or the four forward fastener holes in the group of eight aft-most fastener holes not inspected per paragraph (f)(1), (f)(2), or (g) of this AD. The inspection must be done per the Accomplishment Instructions in Boeing Service Bulletin 767-54A0101, Revision 3, dated September 5, 2002; or Boeing Alert Service Bulletin 767-54A0101, Revision 4, dated February 10, 2005. Accomplishment of the applicable inspection on all eight aft-most fastener holes constitutes terminating action for the repetitive inspection requirements of paragraphs (f)(1), (f)(2), and (g) of this AD.

(k) If no cracking or discrepancy is detected during any detailed inspection required by paragraph (j) of this AD, repeat the inspections of all eight aft-most fastener holes thereafter at the applicable intervals specified in Table 1 of this AD.

(l) If no cracking or discrepancy is detected during any HFEC inspection required by paragraph (j) of this AD or by this paragraph of this AD: Perform the follow-on actions specified in paragraph (f)(2)(i) or (f)(2)(ii) of this AD, as applicable, per the Accomplishment Instructions in Boeing Service Bulletin 767-54A0101, Revision 3, dated September 5, 2002; or Boeing Alert Service Bulletin 767-54A0101, Revision 4, dated February 10, 2005; and repeat the inspections of all eight aft-most fastener holes thereafter at the applicable intervals specified in Table 1 of this AD.

Table 1.—Repetitive Inspection Intervals for All Eight Aft-Most Fastener Holes
If— | Repetitive intervals—
(1) All eight aft-most fastener holes were inspected per paragraph (j) of this AD: | At the applicable intervals specified in Table 1, “Reinspection Intervals for Part 1,” or Table 2, “Reinspection Intervals for Part 2,” as applicable. Both tables are included in Figure 1 of the applicable service bulletin. Within 1,500 flight cycles after the effective date of this AD, only the repetitive intervals in Boeing Alert Service Bulletin 767-54A0101, Revision 4, dated February 10, 2005, may be used.
(2) Only the four forward fastener holes in the group of eight aft-most fastener holes were inspected per paragraph (j) of this AD: | At the next scheduled repetitive inspection required by paragraph (f)(1) or (f)(2) of this AD, as applicable. Thereafter at the applicable intervals specified in Table 1, “Reinspection Intervals for Part 1,” or Table 2, “Reinspection Intervals for Part 2,” as applicable. Both tables are included in Figure 1 of the applicable service bulletin. Within 1,500 flight cycles after the effective date of this AD, only the repetitive intervals in Boeing Alert Service Bulletin 767-54A0101, Revision 4, dated February 10, 2005, may be used.

Corrective Actions for Discrepancies

(m) If any cracking or discrepancy is detected during any inspection required by paragraphs (j), (k), or (l) of this AD, before further flight: Accomplish the corrective actions described in paragraph (h) of this AD, except as provided in paragraph (i) of this AD.

Service Bulletin Revisions

(n) Accomplishing the terminating action in paragraph (h)(1) of this AD before June 9, 2004 (the effective date of AD 2004-09-14) in accordance with the service bulletin revisions in Table 2 of this AD, is acceptable for compliance with the requirements of this AD. After the effective date of this AD, only Boeing Alert Service Bulletin 767-54A0101, Revision 4, dated February 10, 2005, may be used for accomplishing the terminating action in paragraph (h)(1) of this AD.

Table 2.—Service Bulletin Revisions for Terminating Action
Boeing service bulletin | Revision | Date
767-54A0101 | Original | September 23, 1999.
767-54A0101 | 2 | January 10, 2002.

Inspections Accomplished per Previous Issues of Service Bulletin

(o) Inspections required by paragraphs (f) and (g) of this AD that are accomplished before June 9, 2004 in accordance with the service bulletin revisions in Table 3 of this AD are considered acceptable for compliance with the corresponding action specified in this AD.

Table 3.—Service Bulletin Revisions for Previously Accomplished Inspections
Boeing service bulletin | Revision | Date
767-54A0101 | 2 | January 10, 2002.
767-54A0101 | 3 | September 5, 2002.
767-54A0101 | 4 | February 10, 2005.

New Requirements of This AD

Inspections of Closeout Angle and Corrective Action

(p) For airplanes for which the “Reinspection Intervals for Part 1,” referenced in Table 1 of paragraph (l) of this AD apply: At the next applicable inspection, do an HFEC inspection for cracks of the closeout angle that covers the two aft-most fasteners in the lower tang of the midspar fitting and any related investigative and corrective actions, by doing all the applicable actions specified in the Accomplishment Instructions of Boeing Alert Service Bulletin 767-54A0101, Revision 4, dated February 10, 2005. Repeat the inspection at the applicable interval in Table 1, “Reinspection Intervals for Part 1,” in Figure 1 of the alert service bulletin.

Note 2: Boeing Alert Service Bulletin 767-54A0101, Revision 4, dated February 10, 2005, refers to the Boeing service bulletins in the Table 4 of this AD as additional sources of service information for doing the terminating action in paragraph (h)(1) of this AD.

Table 4.—Additional Sources of Service Information
Boeing service bulletin | Revision level | Date | Title
767-54-0052 | Original | June 11, 1992 | Nacelles/Pylons—Strut—Aft Lower Spar—Fastener Corrosion—Inspection and Replacement.
767-54-0061 | 2 | November 23, 1999 | Nacelles/Pylons—Wing-to-Strut Attach Fittings—Lower Spar Bushing Inspection and Replacement.
767-54-0069 | 2 | August 31, 2000 | Nacelles/Pylons—Midspar Fitting—Underwing Sideload Fitting—Fuse Pin Replacement and Wing Rework.
767-54-0072 | Original | March 13, 1997 | Nacelles/Pylons—Strut Attach Upper Link—Upper Link Inspection, Rework, or Replacement.
767-54-0074 | Original | March 27, 1997 | Nacelles/Pylons—Strut Attach Fuse Pins—Upper link Fuse Pin Inspection/Replacement. Where this service bulletin refers to a cotter pin with part number (P/N) MS 25665-374, the P/N should be MS24665-374. Where this service bulletin says, “If no crack indication is found, reinstall the fuse pin,” the correct statement is “If no crack indication is found, continue to Step F.”
767-54-0080 | 1 | May 9, 2002 | Nacelles/Pylons—Pratt and Whitney Powered Airplanes—Nacelle Strut and Wing Structure Modification.
767-54-0081 | 1 | February 7, 2002 | Nacelles/Pylons—General Electric Powered Airplanes—Nacelle Strut and Wing Structure Modification.
767-54A0062 | 5 | November 11, 2002 | Nacelles/Pylons—Strut Attach Fuse Pins—Midspar Fuse Pin Inspection and Replacement.
767-54A0094 | 2 | February 7, 2002 | Nacelles/Pylons—Strut-to-Wing Attachment—Diagonal Brace Inspection/Rework/Replacement.
767-57-0063 | 1 | November 30, 2000 | Wings—Side Load Underwing Fitting—Inspection/Rework.

Note 3: Certain service bulletins referenced in Table 4 of this AD are related to the ADs listed in Table 5 of this AD.

Table 5.—Other Relevant Rulemaking
AD | Applicability | Related Boeing service bulletin | AD requirement
AD 94-11-02, amendment 39-8919, (59 FR 27229, June 10, 1994) | All Boeing Model 767 series airplanes | 767-54A0062 | Repetitive detailed visual and eddy current inspections to detect cracks of certain midspar fuse pins, and replacement of any cracked midspar fuse pin with a new fuse pin.
AD 99-07-06, amendment 39-11091 (64 FR 14578, March 26, 1999) | Certain Boeing Model 767 series airplanes | 767-54A0094 | Repetitive inspections to detect cracking or damage of the forward and aft lugs of the diagonal brace of the nacelle strut; follow-on actions, if necessary; and an optional terminating action for the repetitive inspections. Superseded by AD 2000-07-05.
AD 2000-07-05, amendment 39-11659 (65 FR 18883, April 10, 2000) | Certain Boeing Model 767 series airplanes | 767-54A0094 | Requires the previously optional terminating action of AD 99-07-06.
AD 2000-10-15, amendment 39-11770 (65 FR 37011, June 13, 2000) | Certain Boeing Model 767 series airplanes | 767-54-0074 | One-time inspection to determine whether certain bolts are installed in the side load underwing fittings on both struts, and various follow-on actions, if necessary.
AD 2001-02-07, amendment 39-12091 (66 FR 8085, January 29, 2001) | Certain Boeing Model 767 series airplanes powered by Pratt & Whitney engines | 767-54-0069, 767-54-0080, and 767-54A0094 | Modification of the nacelle strut and wing structure. Terminates certain requirements of AD 94-11-02.
AD 2001-06-12, amendment 39-12159 (66 FR 17492, April 2, 2001) | Certain Boeing Model 767 series airplanes powered by General Electric engines | 767-54-0069, 767-54-0081, and 767-54A0094 | Modification of the nacelle strut and wing structure. Terminates certain requirements of AD 94-11-02.
AD 2003-03-02, amendment 39-13026 (68 FR 4374, January 29, 2003) | All Boeing Model 767 series airplanes | 767-54A0062 | Supersedes AD 94-11-02; Retains all requirements but reduces certain compliance times for certain inspections, expands the detailed and eddy current inspections,and limits the applicability.

Alternative Methods of Compliance (AMOCs)

(q)(1) The Manager, Seattle Aircraft Certification Office (ACO), FAA, has the authority to approve AMOCs for this AD, if requested in accordance with the procedures found in 14 CFR 39.19.

(2) AMOCS approved previously according to AD 2004-09-14, amendment 39-13603, are approved as AMOCs for the corresponding requirements of this AD.

(3) An AMOC that provides an acceptable level of safety may be used for any repair required by this AD, if it is approved by an Authorized Representative for the Boeing Delegation Option Authorization Organization who has been authorized by the Manager, Seattle ACO, to make those findings. For a repair method to be approved, the repair must meet the certification basis of the airplane, and the approval must specifically refer to this AD.

Issued in Renton, Washington, on May 26, 2005.
Ali Bahrami,
Manager, Transport Airplane Directorate, Aircraft Certification Service.

[FR Doc. 05-11050 Filed 6-2-05; 8:45 am]

BILLING CODE 4910-13-P